DEPARTMENT OF ENERGY

Federal Energy Regulatory Commission

[Project No. 4784-089]

Topsham Hydro Partners LP; Notice of Application for Amendment of License To Incorporate Final Species Protection Plan and Soliciting Comments, Motions To Intervene and Protests

Take notice that the following hydroelectric application has been filed with the Commission and is available for public inspection:

a. Application Type: Amendment of license.

b. Project No.: P-4784-089.

c. Date Filed: December 22, 2016.

d. Applicant: Topsham Hydro Partners LP.

e. Name of Project: Pejepscot Hydroelectric Project.

f. Location: The Pejepscot Project is located on the Androscoggin River in Sagadahoc, Cumberland, and Androscoggin Counties, Maine.

g. Filed Pursuant to: Federal Power Act, 16 U.S.C. 791a-825r.

h. Applicant Contact: Kelly Maloney, Licensing and Compliance Manager, Topsham Hydro Partners LP, 150 Main Street, Lewiston, ME 04240; (207) 775-5605.

i. FERC Contact: B. Peter Yarrington (202) 502-6129; peter.yarrington@ferc.gov.

j. Deadline for filing comments, motions to intervene, and protests: 30 days from the issuance of this notice.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the docket number (P-4784-089) on any comments, motions, or recommendations filed.

k. Description of Request: Topsham Hydro Partners LP, licensee for the Pejepscot Project, requests that the Commission amend the project license to incorporate its proposed Final Species Protection Plan (Final SPP) to help protect Gulf of Maine Distinct Population Segment Atlantic salmon, which are listed as endangered under the Endangered Species Act (ESA). Under the Final SPP, the licensee would build upon monitoring, evaluation and protection work performed under its Interim SPP, which was approved in an order issued November 28, 2012. Work under the Final SPP would include monitoring Atlantic salmon movement through the project's existing upstream and downstream fish passage facilities, conducting a downstream passage effectiveness study in 2018, and conducting an upstream passage effectiveness study if certain trigger conditions are met. Under the Final SPP, the licensee would continue existing measures to minimize and avoid take of Atlantic salmon, and participate in mapping of nearby salmon habitat. The licensee would also explore opportunities to increase access to upstream salmon habitat, based on the results of the 2018 downstream passage study. On August 30, 2017, pursuant to section 7 of the ESA, the National Marine Fisheries Service filed a Biological Opinion for the licensee's Final SPP.

l. Locations of the Application: A copy of the application is available for review at the Commission in the Public Reference Room, or may be viewed on the Commission's Web site at http://www.ferc.gov using the eLibrary link. Enter the docket number excluding the last three digits in the docket number field to access the document. For assistance, please contact FERC Online Support at FERCOnlineSupport@ferc.gov, (866) 208-3676 (toll free), or (202) 502-8659 (TTY). A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS; PROTESTS, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: September 1, 2017.
Kimberly D. Bose,
Secretary.

[FR Doc. 2017-19115 Filed 9-8-17; 8:45 am]

BILLING CODE 6717-01-P